DEPARTMENT OF HEALTH AND HUMAN SERVICES

Centers for Disease Control and Prevention

[60 Day-07-0677]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam Daneshvar, Acting CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Sexually Transmitted Diseases Laboratory Methods Survey (OMB No. 0920-0677)—Extension—National Center for HIV/AIDS, Viral Hepatitis, STD, and TB Prevention (NCHHSTP), Centers for Disease Control and Prevention (CDC).

Background and Brief Description

Approximately 18.9 million new cases of sexually transmitted diseases (STDs) are estimated to occur each year in the United States. Effective control and prevention of STDs require prompt diagnosis which relies on laboratory testing, proper screening of those at risk, and effective treatment. Thus, an understanding of the current laboratory testing practices for STDs in the U.S. is critical, not only to monitor capacity but to assess current practices of public health and private laboratories to appropriately test for these diseases. Additionally, these testing practices could affect the resources available to public health departments for STD screening and surveillance programs and could affect our ability to monitor trends in the prevalence of STDs.

The objectives of this proposed data collection are to: (1) Collect information about the volume of and type of testing for chlamydia, gonorrhea, herpes simplex virus (HSV), syphilis, human papillomavirus (HPV), bacterial vaginosis, trichomonas, and pap smears performed in laboratories in calendar year 2006 and (2) collect information about antimicrobial susceptibility testing for gonorrhea during the calendar year 2006.

This survey will build on data collected in 2004 by the Centers for Disease Control and Prevention on laboratory test methods and the volume of testing (Dicker et al. Testing for Sexually Transmitted Diseases in the U.S. Public Health Laboratories in 2004. Sexually Transmitted Diseases. (43):1, pg. 41-46, Jan. 2007).

CDC anticipates collecting this data using an on-line survey of 150 public health laboratories. The survey will take approximately 25 minutes to complete. The only cost to respondents is their time to complete the survey.

Estimate of Annualized Burden Hours
Types of data collection | Number of respondents | Number of responses per respondent | Average burden per response (in hours) | Total burden (in hours)
Public Health Laboratories | 150 | 1 | 25/60 | 63
Total |  |  |  | 63

Dated: August 8, 2007.
Maryam Daneshvar,
Acting Reports Clearance Officer, Centers for Disease Control and Prevention.

[FR Doc. E7-15894 Filed 8-13-07; 8:45 am]

BILLING CODE 4163-18-P Total burden [LI](in hours) [ROW RUL=`n,s'][ENT I="01"]Public Health Laboratories [ENT]150 [ENT]1 [ENT]25/60 [ENT]63 [ROW][ENT I="03"]Total[ENT][ENT][ENT][ENT]63 [/GPOTABLE][SIG][DATED]Dated: August 8, 2007. [NAME]Maryam Daneshvar, [TITLE]Acting Reports Clearance Officer, Centers for Disease Control and Prevention.[/SIG] [FRDOC][FR Doc. E7-??????[BILCOD]?????????